BUREAU OF CONSUMER FINANCIAL PROTECTION

Proposed Collection; Comment Request

AGENCY: Bureau of Consumer Financial Protection.

ACTION: Notice and request for comment.

SUMMARY: The Bureau of Consumer Financial Protection (Bureau), as part of its continuing effort to reduce paperwork and respondent burden, invites the general public and other Federal agencies to take this opportunity to comment on proposed and/or continuing information collections, as required by the Paperwork Reduction Act (PRA) of 1995, Public Law 104-13 (44 U.S.C. 3506(c)(2)(A)). Currently, the Bureau is soliciting comments concerning the information collection requirements relating to identifying strategies to help consumers make better-informed financial decisions.

DATES: Written comments are encouraged and must be received on or before March 18, 2013 to be assured of consideration.

ADDRESSES: You may submit comments by any of the following methods:

• Electronic: CFPB_Public_PRA@cfpb.gov.

• Mail/Hand Delivery/Courier: Direct all written comments to Consumer Financial Protection Bureau (Attention: PRA Office), 1700 G Street NW., Washington, DC 20552.

Instructions: Submissions should include agency name and Generic Clearance for Qualitative Consumer Education and Engagement Information Collections. Comments will be available for public inspection and copying at 1700 G Street NW., Washington, DC 20552 on official business days between the hours of 10 a.m. and 5 p.m. Eastern Time. You can make an appointment to inspect comments by telephoning (202) 435-7275. All comments, including attachments and other supporting materials, will become part of the public record and subject to public disclosure. For this reason, please do not include in your comments information of a confidential nature, such as sensitive personal information or proprietary information. You should only submit information that you wish to make available publicly.

FOR FURTHER INFORMATION CONTACT: Requests for additional information or copies of the documents contained under this approval number should be directed to the Consumer Financial Protection Bureau, (Attention: PRA Office), 1700 G Street NW., Washington, DC 20552, (202) 435-9011, or through the Internet at CFPB_Public_PRA@cfpb.gov.

SUPPLEMENTARY INFORMATION:

Title: Generic Clearance for Qualitative Consumer Education and Engagement Information Collections.

OMB Control Number: 3170-XXXX.

Abstract: Under the Dodd-Frank Wall Street Reform and Consumer Protection Act, Public Law 111-203, Section 1013(b), the Bureau is responsible for developing and implementing initiatives intended to educate and empower consumers to make better informed financial decisions. The collection will focus on identifying financial education and empowerment strategies, practices, and experiences that inform or improve consumer financial decision-making.

The Bureau expects to collect qualitative data on effective strategies from both financial education practitioners and consumers through a variety of methods, including in-person meetings, focus groups, qualitative surveys, online discussion forums, and other qualitative methods as necessary. The information collected through these processes will increase the Bureau's understanding of financial education and empowerment programs and practices that can improve financial decision-making skills and outcomes for consumers.

The core objective of the data collection is to develop a deeper understanding of effective financial education and empowerment strategies in order to help inform future work at the Bureau. This information collection will also provide useful information on financial education and empowerment practices that can be shared with providers and practitioners of financial education and empowerment programs, leading to better financial decision-making outcomes for adult consumers.

Below is an estimate of the aggregate burden hours for the activities anticipated under this information collection.

Type of Review: New Generic Collection.

Average Expected Annual Number of Activities: 15.

Affected Public: Individuals or Households, and Business or other for-profit, not-for-profit institutions, Farms, Federal government, State, Local or Tribal government.

Estimated Number of Annual Responses: 60,000 annual responses.

Estimated Time Per Respondent: Varies from 10 to 120 minutes.

Frequency of Response: On occasion.

Estimated Total Annual Burden Hours: 15,000 hours.

Request for Comments: Comments submitted in response to this notice will be summarized and/or included in the request for Office of Management and Budget (OMB) approval. All comments will become a matter of public record. Comments are invited on: (a) Whether the collection of information is necessary for the proper performance of the functions of the agency, including whether the information shall have practical utility; (b) the accuracy of the agency's estimate of the burden of the collection of information, including the validity of the methodology and the assumptions used; (c) ways to enhance the quality, utility, and clarity of the information to be collected; and (d) ways to minimize the burden of the collection of information on respondents, including through the use of automated collection techniques or other forms of information technology.

An agency may not conduct or sponsor, and a person is not required to respond to, a collection of information unless it displays a currently valid OMB control number.

Dated: January 9, 2013.
Chris Willey,
Chief Information Officer, Bureau of Consumer Financial Protection.

[FR Doc. 2013-00722 Filed 1-14-13; 8:45 am]

BILLING CODE 4810-AM-P